DEPARTMENT OF TRANSPORTATION

Maritime Administration

[Docket No. MARAD-2024-0121]

Request for Comments on the Renewal of a Previously Approved Information Collection: Automated Mutual-Assistance Vessel Rescue (AMVER) System

AGENCY: Maritime Administration, Department of Transportation (DOT).

ACTION: Notice.

SUMMARY: The Maritime Administration (MARAD) invites public comments on our intention to request the Office of Management and Budget (OMB) approval to renew an information collection in accordance with the Paperwork Reduction Act of 1995. The proposed collection OMB 2133-0025 (Automated Mutual-Assistance Vessel Rescue (AMVER) System) is used to maintain a current plot of U.S.-Flag and U.S.-owned vessels. Since the last renewal, there was an increase in the total respondents to this collection, which has resulted in more responses and higher burden hours. There are no other changes to this collection. We are required to publish this notice in the Federal Register to obtain comments from the public and affected agencies.

DATES: Comments must be submitted on or before November 12, 2024.

ADDRESSES: You may submit comments identified by Docket No. MARAD-2024-0121 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Alex Sedlacek, 202-366-1031, Division of Sealift Operations and Emergency Response, Maritime Administration, U.S. Department of Transportation, 1200 New Jersey Ave. SE, Washington, DC 20590, Email: alexander.sedlacek@dot.gov.

SUPPLEMENTARY INFORMATION:

Title: Automated Mutual-Assistance Vessel Rescue (AMVER) System.

OMB Control Number: 2133-0025.

Type of Request: Extension with Change of a Previously Approved Collection.

Abstract: The collection of information will be used to gather information regarding the location of U.S.-flag vessels and certain other U.S. citizen-owned vessels for the purpose of search and rescue in the saving of lives at sea and for the marshalling of ships for national defense and safety purposes.

Respondents: U.S.-flag and U.S. citizen-owned vessels.

Affected Public: Business or other for-profit.

Estimated Number of Respondents: 185.

Estimated Number of Responses: 33,855.

Estimated Hours per Response: .07.

Annual Estimated Total Annual Burden Hours: 2,370.

Frequency of Response: Annually.

(Authority: The Paperwork Reduction Act of 1995; 44 U.S.C. Chapter 35, as amended; and 49 CFR 1.49.)

By Order of the Maritime Administrator.
T. Mitchell Hudson, Jr.,
Secretary, Maritime Administration.

[FR Doc. 2024-20679 Filed 9-11-24; 8:45 am]

BILLING CODE 4910-81-P